DEPARTMENT OF TRANSPORTATION

National Highway Traffic Safety Administration

[Docket No. NHTSA-2012-0176]

Reports, Forms, and Recordkeeping Requirements

AGENCY: National Highway Traffic Safety Administration (NHTSA), Department of Transportation.

ACTION: Request for public comment on a proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes the collection of information for which NHTSA intends to seek OMB approval.

DATES: Comments must be received on or before March 29, 2013.

ADDRESSES: You may submit comments (identified by the DOT Docket ID Number above) by any of the following methods:

Electronic Submissions: Go to http://www.regulations.gov. Follow the online instructions for submitting comments.

Mail: Docket Management Facility; M-30, U.S. Department of Transportation, West Building Ground Floor, Rm. W12-140, 1200 New Jersey Avenue SE., Washington, DC 20590.

Hand Delivery or Courier: West Building Ground Floor, Room W12-140, 1200 New Jersey Avenue SE., Washington, DC 20590 between 9 a.m. and 5 p.m. Eastern Time, Monday through Friday, except Federal holidays.

Fax: (202) 493-2251.

Regardless of how you submit your comments, you should mention the docket number of this document. You may call the Docket at (202) 366-9324. Please identify the proposed collection of information for which a comment is provided, by referencing its OMB clearance number. It is requested, but not required, that two copies of the comment be provided.

Note that all comments received will be posted without change to http://www.regulations.gov, including any personal information provided. Anyone is able to search the electronic form of all comments received into any of our dockets by the name of the individual submitting the comment (or signing the comment, if submitted on behalf of an association, business, labor union, etc.). You may review DOT's complete Privacy Act Statement in the Federal Register published on April 11, 2000 (65 FR 19477-78).

Docket: For access to the docket to read background documents or comments received, go to http://www.regulations.gov or the street address listed above. Follow the online instructions for accessing the dockets.

FOR FURTHER INFORMATION CONTACT: Complete copies of each request for collection of information may be obtained at no charge from Ms. Carla Rush, U.S. Department of Transportation, NHTSA, 1200 New Jersey Avenue SE., W43-417, Washington, DC 20590. (Telephone: (202) 366-4583, Fax: (202) 493-2739).

SUPPLEMENTARY INFORMATION: Under the Paperwork Reduction Act of 1995, before a proposed collection of information is submitted to OMB for approval, Federal agencies must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. permitting electronic submission of responses.

In compliance with these requirements, NHTSA asks for public comments on the following proposed collection of information:

Title: Rear Seat Belt Reminder System Survey.

Type of Request: New collection of information.

OMB Control Number: 2127—NEW.

Requested Expiration Date of Approval: Three years from the approval date.

Summary of the Collection of Information: The National Highway Traffic Safety Administration (NHTSA) proposes to collect information from the driving public to determine drivers' and car passengers' seat belt usage habits as well as the effectiveness and consumer acceptance of rear seat belt reminder systems (SBRSs) in order to support an analysis of the potential benefits of requiring a rear SBRS. A national telephone survey will be administered to 2,500 respondents. Given the low incidence of Americans who own a car with a rear SRBS, the respondents will be selected from vehicle registration lists. The sampled population will be then divided up between 2,000 drivers who own cars with a rear SBRS and 500 drivers who own a car without a rear SBRS. The main study will be preceded by a pretest administered to 9 respondents. The survey will collect basic demographic information, seat belt usage habits, acceptability of rear SBRSs, effectiveness of rear SBRSs and perception of current SBRSs. Interview length will average 15 minutes.

A Spanish-language translation and bilingual interviewers would be used to minimize language barriers to participation. No personally identifiable information will be collected during the telephone interviews. In addition, the interviewers would use “Computer Assisted Telephone Interviewing” (CATI) to reduce interview length and minimize recording errors.

Description of the Need for the Information and Proposed Use of the Information: NHTSA was established to reduce the number of deaths, injuries, and economic losses resulting from motor vehicle crashes on the Nation's highways. As part of this statutory mandate, NHTSA is authorized to conduct research as a foundation for the development of motor vehicle standards and traffic safety programs.

A NHTSA survey released in 2010 found passengers in the rear seat of a vehicle buckle up 74% of the time, compared with 85% for those sitting in the front. Unbelted rear seat passengers risk serious injury or death to themselves and pose a potentially fatal threat to others in the event of a crash. SBRSs have been shown to increase the use of seat belts in the front seats of vehicles. While rear SBRSs are currently available on only a few vehicle models sold in the U.S., NHTSA seeks to collect data from those who drive these vehicles (the test group) and draw comparisons to those who drive similar vehicles without a rear SBRS (the comparison group). To this end, NHTSA will collect basic demographic information from both groups and information on their and their passengers seat belt usage habits, as well as the effectiveness, preferences and acceptance of the rear SBRS.

NHTSA will use the findings from this proposed collection of information in support of an analysis of the potential benefits of requiring a rear SBRS in new vehicles sold in the United States.

Description of the Likely Respondents (including Estimated Number, and Proposed Frequency of Response to the Collection of Information): Under this proposed effort, 9 pretest telephone interviews and 2,500 national survey telephone interviews would be conducted for a total of 2,509 interviews. The telephone interview would be conducted with a national sample of 2,000 drivers aged 18 years old or older, that drive a vehicle with a rear SBRS and regularly transport rear passengers 8 years old or older. In addition to this, interviews would be conducted with a comparison group of 500 drivers aged 18 years old or older that drive similar vehicles as those in the national sample except these vehicle do not have a rear SBRS. These drivers must also regularly transport rear passengers who are 8 years old or older. Interview length will average 15 minutes. The sample will be drawn from registration lists of vehicle owners.

Interviews will be conducted both with respondents using landline phones and cellphones. Federal law prohibits the use of auto dialing to call cell phones; therefore all cell phone numbers would be dialed manually. Each sample member would complete just one interview. Businesses are ineligible for the sample and would not be interviewed.

Estimate of the Total Annual Reporting and Recordkeeping Burden Resulting From the Collection of Information: NHTSA estimates that respondents would require an average of 15 minutes to complete the telephone interviews or a total of 627 hours for the 2,509 respondents. All interviewing would occur during a two to three month period during 2013.

Thus the annual reporting burden would be the entire 627 hours. The respondents would not incur any reporting or recordkeeping burden from the data collection.

Authority: 44 U.S.C. 3506(c)(2)(A).

Issued on: January 17, 2013.
Lori K. Summers,
Director, Office of Crashworthiness Standards.

[FR Doc. 2013-01715 Filed 1-25-13; 8:45 am]

BILLING CODE 4910-59-P